DEPARTMENT OF ENERGY

Federal Energy Regulatory Commission

Combined Notice of Filings

Take notice that the Commission has received the following Natural Gas Pipeline Rate and Refund Report filings:

Filings Instituting Proceedings

Docket Numbers: RP14-1194-000.

Applicants: Discovery Gas Transmission LLC.

Description: § 4(d) rate filing per 154.204: Junction Project Tariff Filing to be effective 10/1/2014.

Filed Date: 8/21/14.

Accession Number: 20140821-5057.

Comments Due: 5 p.m. ET 9/2/14.

Docket Numbers: RP14-1196-000.

Applicants: Gas Transmission Northwest LLC.

Description: § 4(d) rate filing per 154.204: ROFR Installation of Facilities to be effective 9/22/2014.

Filed Date: 8/22/14.

Accession Number: 20140822-5066.

Comments Due: 5 p.m. ET 9/3/14.

Docket Numbers: RP14-1206-000.

Applicants: Southern Star Central Gas Pipeline, Inc.

Description: § 4(d) rate filing per 154.204: Operational Performance Provisions Filing to be effective 10/1/2014.

Filed Date: 8/28/14.

Accession Number: 20140828-5056.

Comments Due: 5 p.m. ET 9/9/14.

Docket Numbers: RP14-1207-000.

Applicants: Carolina Gas Transmission Corporation.

Description: Penalty Revenue Sharing Filing of Carolina Gas Transmission Corporation for 2014.

Filed Date: 8/28/14.

Accession Number: 20140828-5066.

Comments Due: 5 p.m. ET 9/9/14.

Docket Numbers: RP14-1208-000.

Applicants: Equitrans, L.P.

Description: § 4(d) rate filing per 154.204: Reservation Charge Crediting to be effective 10/1/2014.

Filed Date: 8/28/14.

Accession Number: 20140828-5073.

Comments Due: 5 p.m. ET 9/9/14.

Docket Numbers: RP14-1209-000.

Applicants: Northwest Pipeline LLC.

Description: § 4(d) rate filing per 154.204: 2014 Winter Fuel Filing to be effective 10/1/2014.

Filed Date: 8/28/14.

Accession Number: 20140828-5088.

Comments Due: 5 p.m. ET 9/9/14.

Docket Numbers: RP14-1210-000.

Applicants: Transcontinental Gas Pipe Line Company.

Description: § 4(d) rate filing per 154.403: GSS LSS SS-2 S-2 2014 TGPL ACA Tracker Filing to be effective 10/1/2014.

Filed Date: 8/28/14.

Accession Number: 20140828-5156.

Comments Due: 5 p.m. ET 9/9/14.

Docket Numbers: RP14-1211-000.

Applicants: Algonquin Gas Transmission, LLC.

Description: § 4(d) rate filing per 154.204: Negotiated Rate Release—eff 9/1/2014 to be effective 9/1/2014.

Filed Date: 8/28/14.

Accession Number: 20140828-5161.

Comments Due: 5 p.m. ET 9/9/14.

Docket Numbers: RP14-1212-000.

Applicants: Algonquin Gas Transmission, LLC.

Description: § 4(d) rate filing per 154.204: Negotiated Rate Release Brooklyn Union—eff 9/1/2014 to be effective 9/1/2014.

Filed Date: 8/28/14.

Accession Number: 20140828-5162.

Comments Due: 5 p.m. ET 9/9/14.

Docket Numbers: RP14-1213-000.

Applicants: Algonquin Gas Transmission, LLC.

Description: § 4(d) rate filing per 154.204: Negotiated Rate Release KeySpan—eff 9/1/2014 to be effective 9/1/2014.

Filed Date: 8/28/14.

Accession Number: 20140828-5176.

Comments Due: 5 p.m. ET 9/9/14.

Docket Numbers: RP14-1214-000.

Applicants: Viking Gas Transmission Company.

Description: § 4(d) rate filing per 154.312: NGA Section 4 Rate Case to be effective 3/1/2015.

Filed Date: 8/29/14.

Accession Number: 20140829-5003.

Comments Due: 5 p.m. ET 9/10/14.

Docket Numbers: RP14-1215-000.

Applicants: Paiute Pipeline Company.

Description: § 4(d) rate filing per 154.204: Place Tariff Sheets Into Effect to be effective 9/1/2014.

Filed Date: 8/29/14.

Accession Number: 20140829-5002.

Comments Due: 5 p.m. ET 9/10/14.

Docket Numbers: RP14-1216-000.

Applicants: Transcontinental Gas Pipe Line Company.

Description: § 4(d) rate filing per 154.204: Negotiated Rates—Cherokee AGL—Replacement Shippers—Sep 2014 to be effective 9/1/2014.

Filed Date: 8/29/14.

Accession Number: 20140829-5045.

Comments Due: 5 p.m. ET 9/10/14.

Docket Numbers: RP14-1217-000.

Applicants: North Baja Pipeline, LLC.

Description: § 4(d) rate filing per 154.204: Implementation of New System Tariff Cleanup to be effective 10/1/2014.

Filed Date: 8/29/14.

Accession Number: 20140829-5048.

Comments Due: 5 p.m. ET 9/10/14.

Docket Numbers: RP14-1218-000.

Applicants: MarkWest Pioneer, L.L.C.

Description: § 4(d) rate filing per 154.403(d)(2): MarkWest Pioneer—Quarterly FRP Filing to be effective 10/1/2014.

Filed Date: 8/29/14.

Accession Number: 20140829-5052.

Comments Due: 5 p.m. ET 9/10/14.

Docket Numbers: RP14-1219-000.

Applicants: WBI Energy Transmission, Inc.

Description: § 4(d) rate filing per 154.204: 2014 Semi-annual Fuel & Electric Power Reimbursement Adjustment to be effective 10/1/2014.

Filed Date: 8/29/14.

Accession Number: 20140829-5054.

Comments Due: 5 p.m. ET 9/10/14.

Docket Numbers: RP14-1220-000.

Applicants: MoGas Pipeline LLC.

Description: § 4(d) rate filing per 154.402: Annual Fuel and Gas Loss Retention Percentage Adjustment Filing to be effective 10/1/2014.

Filed Date: 8/29/14.

Accession Number: 20140829-5056.

Comments Due: 5 p.m. ET 9/10/14.

Docket Numbers: RP14-1221-000.

Applicants: Texas Eastern Transmission, LP.

Description: Compliance filing per 154.203: 2014 Operational Entitlements.

Filed Date: 8/29/14.

Accession Number: 20140829-5058.

Comments Due: 5 p.m. ET 9/10/14.

Docket Numbers: RP14-1222-000.

Applicants: Florida Gas Transmission Company, LLC.

Description: § 4(d) rate filing per 154.204: Fuel Filing on 8-29-14 to be effective 10/1/2014.

Filed Date: 8/29/14.

Accession Number: 20140829-5066.

Comments Due: 5 p.m. ET 9/10/14.

Docket Numbers: RP14-1223-000.

Applicants: Columbia Gulf Transmission, LLC.

Description: Columbia Gulf Transmission, LLC's Annual Cash-Out Report.

Filed Date: 8/29/14.

Accession Number: 20140829-5068.

Comments Due: 5 p.m. ET 9/10/14.

Docket Numbers: RP14-1224-000.

Applicants: Gulf South Pipeline Company, LP.

Description: § 4(d) rate filing per 154.204: Cap Rel Neg Rate Agmt (Petrohawk 41455 to BP 42989) to be effective 9/1/2014.

Filed Date: 8/29/14.

Accession Number: 20140829-5076.

Comments Due: 5 p.m. ET 9/10/14.

Docket Numbers: RP14-1225-000.

Applicants: Gulf South Pipeline Company, LP.

Description: § 4(d) rate filing per 154.204: Cap Rel Neg Rate Agmt (Encana 37663 to Texla 43001) to be effective 9/1/2014.

Filed Date: 8/29/14.

Accession Number: 20140829-5077.

Comments Due: 5 p.m. ET 9/10/14.

Docket Numbers: RP14-1226-000.

Applicants: Gulf South Pipeline Company, LP.

Description: § 4(d) rate filing per 154.204: Cap Rel Neg Rate Agmt (JW Operating 34690 to QWest 43003) to be effective 9/1/2014.

Filed Date: 8/29/14.

Accession Number: 20140829-5082.

Comments Due: 5 p.m. ET 9/10/14.

Docket Numbers: RP14-1227-000.

Applicants: Ruby Pipeline, L.L.C.

Description: § 4(d) rate filing per 154.403(d)(2): FL&U and EPC Effective October 1, 2014 to be effective 10/1/2014.

Filed Date: 8/29/14.

Accession Number: 20140829-5103.

Comments Due: 5 p.m. ET 9/10/14.

Docket Numbers: RP14-1228-000.

Applicants: Colorado Interstate Gas Company, L.L.C.

Description: Annual Operational Purchase and Sales Report of Colorado Interstate Gas Company, L.L.C.

Filed Date: 8/29/14.

Accession Number: 20140829-5138.

Comments Due: 5 p.m. ET 9/10/14.

Docket Numbers: RP14-1229-000.

Applicants: Honeoye Storage Corporation.

Description: § 4(d) rate filing per 154.204: Honeoye Storage Corp/NFGDC Changes October 1, 2014 to be effective 10/1/2014.

Filed Date: 8/29/14.

Accession Number: 20140829-5142.

Comments Due: 5 p.m. ET 9/10/14.

Docket Numbers: RP14-1230-000.

Applicants: Dominion Transmission, Inc.

Description: § 4(d) rate filing per 154.204: DTI—Web site Notification to be effective 10/1/2014.

Filed Date: 8/29/14.

Accession Number: 20140829-5143.

Comments Due: 5 p.m. ET 9/10/14.

Docket Numbers: RP14-1231-000.

Applicants: Dominion Cove Point LNG, LP.

Description: § 4(d) rate filing per 154.204: DCP—Web site Notification to be effective 10/1/2014.

Filed Date: 8/29/14.

Accession Number: 20140829-5144.

Comments Due: 5 p.m. ET 9/10/14.

Docket Numbers: RP14-1232-000.

Applicants: Colorado Interstate Gas Company, L.L.C.

Description: § 4(d) rate filing per 154.403(d)(2): Annual FL&U and Index Price Update Effective October 1, 2014 to be effective 10/1/2014.

Filed Date: 8/29/14.

Accession Number: 20140829-5145.

Comments Due: 5 p.m. ET 9/10/14.

Docket Numbers: RP14-1233-000.

Applicants: Midcontinent Express Pipeline LLC.

Description: § 4(d) rate filing per 154.204: Negotiated Rate—DTE Energy to be effective 9/1/2014.

Filed Date: 8/29/14.

Accession Number: 20140829-5174.

Comments Due: 5 p.m. ET 9/10/14.

Docket Numbers: RP14-1234-000.

Applicants: Midcontinent Express Pipeline LLC.

Description: § 4(d) rate filing per 154.204: Negotiated Rate Filing—Enable Energy to be effective 9/1/2014.

Filed Date: 8/29/14.

Accession Number: 20140829-5176.

Comments Due: 5 p.m. ET 9/10/14.

Docket Numbers: RP14-1235-000.

Applicants: El Paso Natural Gas Company, L.L.C.

Description: § 4(d) rate filing per 154.204: Non-Conforming Agreement Filing (CFE) to be effective 10/1/2014.

Filed Date: 8/29/14.

Accession Number: 20140829-5194.

Comments Due: 5 p.m. ET 9/10/14.

Docket Numbers: RP14-1236-000.

Applicants: Tennessee Gas Pipeline Company, L.L.C.

Description: § 4(d) rate filing per 154.204: Volume No. 2—Statoil Natural Gas LLC—Amend Exhibit A to be effective 9/1/2014.

Filed Date: 8/29/14.

Accession Number: 20140829-5213.

Comments Due: 5 p.m. ET 9/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2014.
Nathaniel J. Davis, Sr.,
Deputy Secretary.

[FR Doc. 2014-21322 Filed 9-8-14; 8:45 am]

BILLING CODE 6717-01-P